DEPARTMENT OF TRANSPORTATION

Federal Aviation Administration

14 CFR Part 71

[Docket No. FAA-2020-1103; Airspace Docket No. 20-ACE-21]

RIN 2120-AA66

Proposed Amendment of V-72, V-132, V-190, and V-289, and Revocation of V-238 in the Vicinity of Maples, MO

AGENCY: Federal Aviation Administration (FAA), DOT.

ACTION: Notice of proposed rulemaking (NPRM).

SUMMARY: This action proposes to amend VHF Omnidirectional Range (VOR) Federal airways V-72, V-132, V-190, and V-289; and remove VOR Federal airway V-238 in the vicinity of Maples, MO. The VOR Federal airway modifications are necessary due to the planned decommissioning of the VOR portion of the Maples, MO, VOR/Tactical Air Navigation (VORTAC) navigation aid (NAVAID) which provides navigation guidance for portions of the affected airways listed above. The Maples VOR is being decommissioned as part of the FAA's VOR Minimum Operational Network (MON) program.

DATES: Comments must be received on or before January 25, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-1103; Airspace Docket No. 20-ACE-21 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-1103; Airspace Docket No. 20-ACE-21) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-1103; Airspace Docket No. 20-ACE-21.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Parkway, Fort Worth, TX, 76177.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

The FAA is planning to decommission the VOR portion of the Maples, MO, VORTAC in August 2021. The Maples, MO, VOR is a candidate VOR identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Maples VORTAC is planned for decommissioning, the co-located DME portion of the NAVAID is being retained.

The existing Air Traffic Service (ATS) route dependencies to the Maples, MO, VORTAC NAVAID are VOR Federal airways V-72, V-132, V-190, V-238, and V-289. With the planned decommissioning of the VOR portion of the Maples VORTAC, the remaining ground-based NAVAID coverage in the area is insufficient to enable the continuity of V-72, V-190, and V-238. As such, proposed modifications to these affected airways would result in a gap in two of the airways (V-72 and V-190) and removing the third airway completely (V-238). However, the remaining ground-based NAVAID coverage in the area is sufficient to retaining two of the airways (V-132 and V- 289) as they are charted today by redefining the affected airway points in each of the airways.

To overcome the gaps created in V-72 and V-190, and the loss of V-238, instrument flight rules (IFR) traffic could use adjacent ATS routes, including VOR Federal airways V-14, V-88, V-132, V-175, V-178, and V-289, or request air traffic control (ATC) radar vectors to fly through or circumnavigate the affected area. Additionally, IFR pilots equipped with RNAV PBN capabilities could also navigate point to point using the existing fixes that will remain in place to support continued operations though the affected area. Visual flight rules (VFR) pilots who elect to navigate via the airways through the affected area could also take advantage of the adjacent VOR Federal airways or ATC services listed previously.

To retain V-132 as charted, the FAA is proposing to redefine the airway point defined by the intersection of the Forney, MO, VOR 086° and Maples, MO, VORTAC 052° radials (LENOX fix) by using the existing Forney, MO, VOR 086° radial and replacing the Maples, MO, radial with a new Vichy, MO, VOR/Distance Measuring Equipment (VOR/DME) 156°(T)/150°(M) radial. As a result, the V-132 airway would remain unchanged and as currently charted.

To retain V-289 as charted, the FAA is proposing to redefine the airway point defined by the intersection of the Maples, MO, VORTAC 236° and Vichy, MO, VOR/DME 204° radials (GOBEY fix) by replacing the Maples, MO, VORTAC radial with a new Dogwood, MO, VORTAC 058°(T)/057°(M) radial and using the existing Vichy, MO, VOR/DME 204° radial. As a result, the V-289 airway would remain unchanged and as currently charted.

The Proposal

The FAA is proposing an amendment to Title 14 Code of Federal Regulations (14 CFR) part 71 by modifying VOR Federal airways V-72, V-132, V-190, and V-289, and removing V-238 in its entirety. The planned decommissioning of the VOR portion of the Maples, MO, VORTAC has made this action necessary.

The proposed VOR Federal airway changes are outlined below.

V-72: V-72 currently extends between the Razorback, AR, VORTAC and the Bible Grove, IL, VORTAC. The FAA proposes to remove the airway segment overlying the Maples, MO, VORTAC between the Dogwood, MO, VORTAC and the Farmington, MO, VORTAC. The unaffected portions of the existing airway would remain as charted.

V-132: V-132 currently extends between the Medicine Bow, WY, VOR/DME and the intersection of the Forney, MO, VOR 086° and Maples, MO, VORTAC 052° radials (LENOX fix). The airway excludes that portion within restricted areas R-4501A, R-4501B, R-4501C and R-4501D during their time of activation. The FAA proposes to redefine the LENOX fix as the intersection of the existing Forney, MO, VOR 086° radial and new Vichy, MO, VOR/DME 156°(T)/150°(M) radial. The existing airway would remain as charted and the exclusion language would remain unchanged.

V-190: V-190 currently extends between the Phoenix, AZ, VORTAC and the Pocket City, IN, VORTAC. The FAA proposes to remove the airway segment overlying the Maples, MO, VORTAC between the Springfield, MO, VORTAC and the Farmington, MO, VORTAC. Additional changes to other portions of the airway have been proposed in a separate NPRM. The unaffected portions of the existing airway would remain as charted.

V-238: V-238 currently extends between the Maples, MO, VORTAC and the Troy, IL, VORTAC. The FAA proposes to remove the airway in its entirety.

V-289: V-289 currently extends between the Beaumont, TX, VORTAC and the Vichy, MO, VOR/DME. The FAA proposes to remove the airway point defined by the intersection of the Dogwood, MO, VORTAC 058° and Maples, MO, VORTAC 236° radials (MUPIE fix) and redefine the airway point defined by the intersection of the Maples, MO, VORTAC 236° and Vichy, MO, VOR/DME 204° radials (GOBEY fix) as the intersection of the new Dogwood, MO, VORTAC 058°(T)/057°(M) radial and existing Vichy, MO, VOR/DME 204° radial. The existing airway would remain as charted.

All radials in the VOR Federal airway descriptions below that do not reflect True (T)/Magnetic (M) degree radial information are unchanged and stated in True degrees.

VOR Federal airways are published in paragraph 6010(a) of FAA Order 7400.11E dated July 21, 2020, and effective September 15, 2020, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-72 [Amended]

From Razorback, AR; to Dogwood, MO. From Farmington, MO; Centralia, IL; to Bible Grove, IL.

* * * * *

V-132 [Amended]

From Medicine Bow, WY; INT Medicine Bow 106° and Cheyenne, WY, 330° radials; Cheyenne; Akron, CO; 17 miles, 49 miles, 59 MSL, Goodland, KS; 50 miles, 97 miles, 65 MSL, Hutchinson, KS; INT Hutchinson 078° and Chanute, KS, 293° radials; Chanute; INT Chanute 100° and Springfield, MO, 276° radials; Springfield; INT Springfield 058° and Forney, MO, 266° radials; Forney; INT Forney 086° and Vichy, MO, 156°(T)/150°(M) radials, excluding that portion within R-4501A, R-4501B, R-4501C, and R-4501D during their time of activation.

* * * * *

V-190 [Amended]

From Phoenix, AZ; St. Johns, AZ; Albuquerque, NM; Fort Union, NM; Dalhart, TX; Mitbee, OK; INT Mitbee 059° and Pioneer, OK, 280° radials; Pioneer; INT Pioneer 094° and Bartlesville, OK, 256° radials; Bartlesville; INT Bartlesville 075° and Oswego, KS, 233° radials; Oswego; INT Oswego 085° and Springfield, MO, 261° radials; to Springfield. From Farmington, MO; Marion, IL; to Pocket City, IN.

* * * * *

V-238 [Removed]

* * * * *

V-289 [Amended]

From Beaumont, TX; INT Beaumont 323° and Lufkin, TX, 161° radials; Lufkin; Gregg County, TX; Texarkana, AR; Fort Smith, AR; Harrison, AR; Dogwood, MO; INT Dogwood 058°(T)/057°(M) and Vichy, MO, 204° radials; to Vichy.

* * * * *

Issued in Washington, DC, on December 7, 2020.
George Gonzalez,
Acting Manager, Rules and Regulations Group.

[FR Doc. 2020-27111 Filed 12-9-20; 8:45 am]

BILLING CODE 4910-13-P